DEPARTMENT OF JUSTICE

Notice of Lodging of Two Consent Decrees Under the Comprehensive Environmental Response, Compensation and Liability Act

Notice is hereby given that on June 1, 2011, two proposed consent decrees in United States and State of Nebraska v. Union Pacific Corp., Union Pacific Railway Co., and Gould Electronics Inc., Civil Action No. 8:11-cv-00195, were lodged with the United States District Court for the District of Nebraska.

In that lawsuit, the United States and State of Nebraska seek to recover response costs pursuant to the Comprehensive Environmental Response, Compensation and Liability Act (“CERCLA”) in connection with the U.S. Environmental Protection Agency's continuing cleanup of the Omaha Lead Superfund Site.

One of the proposed consent decrees will require Union Pacific Corp. and Union Pacific Railway Co. to expend $3.15 million performing community health education in Omaha about the health risks of lead exposure; pay $21,350,000 to the Hazardous Substance Superfund in partial reimbursement of the United States' response costs; pay $100,000 to the United States Department of the Interior; and pay $400,000 to the Nebraska Department of Environmental Quality.

The other proposed consent decree will require Gould Electronics Inc. to pay $1,104,000 to the Hazardous Substance Superfund in partial reimbursement of the United States' response costs and pay $46,000 to the Nebraska Department of Environmental Quality.

For 30 days after the date of this publication, the Department of Justice will receive comments relating to the two proposed consent decrees. Comments should be addressed to the Assistant Attorney General, Environment and Natural Resources Division, and either e-mailed to pubcomment-ees.enrd@usdoj.gov or mailed to P.O. Box 7611, U.S. Department of Justice, Washington, D.C. 20044-7611. Comments should refer to United States and State of Nebraska v. Union Pacific Corp., Union Pacific Railway Co., and Gould Electronics Inc., D.J. Ref. 90-11-3-07834/4.

The proposed consent decrees may be examined at the U.S. Environmental Protection Agency's Region 7 office at 901 N. Fifth St., Kansas City, KS 66101 (contact Associate Regional Counsel Steven Sanders (913) 551-7578). During the public comment period, the proposed consent decrees may also be examined on the following Department of Justice Web site, http://www.usdoj.gov/enrd/Consent_Decrees.html. A paper copy of the proposed consent decrees may be obtained by mailing a request to the Consent Decree Library, P.O. Box 7611, U.S. Department of Justice, Washington, DC 20044-7611. When requesting a paper copy by mail, please enclose a check in the amount of $46.25 for the complete consent decrees or $14.50 for the consent decrees without the appendices (25 cents per page reproduction cost) payable to the U.S. Treasury. A paper copy may also be obtained by faxing or e-mailing a request to Tonia Fleetwood, tonia.fleetwood@usdoj.gov, fax number (202) 514-0097, phone confirmation number (202) 514-1547, and sending a check to the Consent Decree Library at the stated address.

Robert E. Maher, Jr.,
Assistant Section Chief, Environmental Enforcement Section, Environment and Natural Resources Division.

[FR Doc. 2011-14098 Filed 6-7-11; 8:45 am]

BILLING CODE 4410-15-P